DEPARTMENT OF AGRICULTURE

Federal Crop Insurance Corporation

7 CFR Part 457

RIN 0563-AC10

Common Crop Insurance Regulations; Apple Crop Insurance Provisions

AGENCY: Federal Crop Insurance Corporation, USDA.

ACTION: Notice of reopening of comment period.

SUMMARY: The Federal Crop Insurance Corporation is reopening and extending the comment period for the proposed rule published in the Federal Register on Tuesday, September 8, 2009. The proposed rule amends the Common Crop Insurance Regulations, Apple Crop Insurance Provisions to provide policy changes, to clarify existing policy provisions to better meet the needs of insured producers, and to reduce vulnerability to program fraud, waste, and abuse. During the comment period, FCIC received comments that due to the public comment period overlapping with the apple harvest in some areas, sixty days was not adequate to properly review the proposed changes. FCIC agrees additional time is appropriate to ensure all interested persons have time to fully review the proposed rule and provide meaningful comments.

DATES: The comment period for the proposed rule published on September 8, 2009, (73 FR 46023) is reopened. Written comments and opinions on this rule will be accepted until close of business December 17, 2009 and will be considered when the rule is to be made final.

ADDRESSES: Interested persons are invited to submit comments, titled “Apple Crop Provisions”, by any of the following methods:

• By Mail to: Director, Product Administration and Standards Division, Risk Management Agency, United States Department of Agriculture, Beacon Facility—Mail Stop 0812, Room 421, PO Box 419205, Kansas City, MO 64141-6205.

• By Express Mail to: Director, Product Administration and Standards Division, Risk Management Agency, United States Department of Agriculture, Beacon Facility, Stop 0812, 9240 Troost Avenue, Kansas City, MO 64131-3055.

• E-Mail: DirectorPDD@rma.usda.gov.

• Federal eRulemaking Portal: http://www.regulations.gov. Follow the instructions for submitting comments.

A copy of each response will be available for public inspection and copying from 7 a.m. to 4:30 p.m., CST, Monday through Friday, except holidays, at 6501 Beacon Drive, Stop 0812, Room 421, Kansas City, MO 64133-4676.

FOR FURTHER INFORMATION CONTACT: Erin Albright, Risk Management Specialist, Product Management, Product Administration and Standards Division, Risk Management Agency, United States Department of Agriculture, Beacon Facility, Stop 0812, Room 421, PO Box 419205, Kansas City, MO 64141-6205, telephone (816) 926- 7730.

SUPPLEMENTARY INFORMATION:

Background

On Tuesday, September 8, 2009, FCIC published a proposed rule in the Federal Register. The proposed rule amends the Common Crop Insurance Regulations, Apple Crop Insurance Provisions to provide policy changes, to clarify existing policy provisions to better meet the needs of insured producers, and to reduce vulnerability to program fraud, waste, and abuse.

The proposed rule public comment period of 60 days ended on November 9, 2009. Based on several requests received during the comment period, FCIC is reopening and extending the comment period until December 17, 2009. This action will allow interested persons additional time to prepare and submit comments regarding the proposed rule.

Signed in Washington, DC, on November 10, 2009.
William J. Murphy,
Manager, Federal Crop Insurance Corporation.

[FR Doc. E9-27595 Filed 11-16-09; 8:45 am]

BILLING CODE 3410-08-P